FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011963-001.

Title: Maersk Line/USL Space Charter Agreement.

Parties: A.P. Moller-Maersk A/S and U.S. Lines Limited.

Filing Party: Wayne R. Rohde, Esq.; Sher & Blackwell LLP; 1850 M Street, NW.; Suite 900; Washington, DC 20036.

Synopsis: The amendment revises the amount of space Maersk will charter to U.S. Lines.

Agreement No.: 012012.

Title: CSCL/Wan Hai Slot Charter Agreement.

Parties: China Shipping Container Lines (Hong Kong) Co., Ltd. and Wan Hai Lines Ltd.

Filing Party: Andrew W. Dyer, Jr., Esq.; Blank Rome LLP; 600 New Hampshire Avenue, NW.; Washington, DC 20037.

Synopsis: The agreement authorizes China Shipping to charter space to Wan Hai in the trade between U.S. West Coast ports and ports in the Far East.

By Order of the Federal Maritime Commission.
Dated: August 17, 2007.
Karen V. Gregory,
Assistant Secretary.

[FR Doc. E7-16597 Filed 8-21-07; 8:45 am]

BILLING CODE 6730-01-P